ENVIRONMENTAL PROTECTION AGENCY

[EPA-HQ-OPP-2009-0045; FRL-8407-4]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before May 8, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation 8:30 a.m. to 4 p.m., Monday through Friday, excluding legal holidays. Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 8E7433. (EPA-HQ-OPP-2009-0013). The Interregional Research Project Number 4 (IR-4), IR-4 Project Headquarters, 500 College Rd. East, Suite 201 W, Princeton, NJ 08540, proposes to establish tolerances in 40 CFR 180.603 for the combined residues of the insecticide dinotefuran, (RS)-1-methyl-2-nitro-3-(tetrahydro-3-furylmethyl)guanidine and its major metabolites DN, 1-methyl-3-(tetrahydro-3-furylmethyl)guanidine, and UF, 1-methyl-3-(tetrahydro-3-furylmethyl)-urea in or on brassica, leafy greens, subgroup 5B at 17.0 parts per million (ppm) and turnip, greens at 17.0 ppm. The IR-4 submitted this petition on behalf of the registrants, Valent USA Corporation and Mitsui Corporation, Minato-ku, Tokyo, Japan. Mitsui Chemicals, Inc., has submitted practical analytical methodology for detecting and measuring levels of dinotefuran and its metabolites, UF and DN, in or on raw agricultural commodities. The high performance liquid chromatography (HPLC) method was validated for determination of dinotefuran, DN and UF in or on tomatoes and peppers, cucurbits, brassica, grapes, potatoes, and lettuce for raw agricultural commodity matrices and in or on tomato paste and puree, grape juice and raisins and potato chips, granules, and wet peel for processed commodity matrices. After extraction with a water/acetonitrile mixture and clean up with hexane and extraction columns, concentrations of dinotefuran and its metabolites were quantified after HPLC separation by tandem mass spectrometry (MS/MS) detection. The limit of quantitation was 0.01 ppm for all matrices. Contact: Sidney Jackson, (703) 305-7610, jackson.sidney@epa.gov.

2. PP 8E7447. (EPA-HQ-OPP-2009-0012). IR-4, IR-4 Project Headquarters, 500 College Rd. East, Suite 201 W, Princeton, NJ 08540, proposes to establish tolerances in 40 CFR 180.544 for residues of the insecticide methoxyfenozide and its metabolites RH-117,236 free phenol of methoxyfenozide; 3,5-dimethylbenzoic acid N-tert-butyl-N'-(3-hydroxy-2-methylbenzoyl) hydrazide, RH-151,055 glucose conjugate of RH-117,236; 3,5-dimethylbenzoic acid N-tert-butyl-N-[3( -[beta]-D-glucopyranosyloxy)-2-methylbenzoyl]-hydrazide) and RH-152,072 the malonylglycosyl conjugate of RH-117,236 in or on fruit, citrus, group 10 at 2.0 ppm and citrus oil at 70 ppm for tolerances with regional registrations; and pea and bean, dried shelled, except soybean, subgroup 6C at 0.35 ppm; pomegranate at 0.6 ppm; corn, pop, grain at 0.05 ppm; corn, pop, stover at 125 ppm; and corn, pop, forage at 30 ppm. Adequate enforcement methods are available for determination of methoxyfenozide residues in plant commodities, as derived from Dow AgroSciences GRM 02.25, “Determination of Residues of Methoxyfenozide in High Moisture Crops by Liquid Chromatography with Tandem Mass Spectrometry Detection” which has been validated. This method is based on enforcement method TR 34-00-28 developed by Rohm and Haas which has been extensively validated, including an independent laboratory validation. It was judged to be adequate to enforce tolerances for indirect or inadvertent residues of methoxyfenozide and relevant metabolites in/on high and low moisture rotational crops. Contact: Sidney Jackson, (703) 305-7610, jackson.sidney@epa.gov.

3. PP 8E7480. (EPA-HQ-OPP-2009-0176). BASF Corporation, P.O. Box 13528, Research Triangle Park, NC 27709, proposes to establish an import tolerance in 40 CFR 180.517 for residues of the insecticide mixture comprising fipronil (5-amino-1[2,6-dichloro-4-(trifluoromethyl)phenyl]-4-[(1R,S)-trifluoromethyl)sulfinyl]-1H-pyrazole-3-carbonitrile) and its metabolites 5-amino-1-[2,6-dichloro-4-(trifluoromethyl)phenyl]-4-[(trifluoromethyl)sulfonyl]-1H-pyrazole-3-carbonitrile and 5-amino-1-[2,6-dichloro-4-(trifluoromethyl)phenyl-4-[(trifluoromethyl)thio]-H-pyrazole-3-carbonitrile and its photodegradate 5-amino-1-[2,6-dichloro-4-(trifluoromethyl)phenyl]-4-[(1R,S)-(trifluoromethyl)-1H-pyrazole-3-carbonitrile] in or on rice, grain at 0.04 ppm. Validated analytical methods are available for detecting and measuring levels of fipronil and its metabolites in rice. The method utilizes capillary gas chromatography equipped with a Ni electron capture detector. Alternatively, a liquid chromatography with tandem mass spectrometry (LC/MS/MS) detector may be used. The limit of quantitation for rice is 0.01 ppm for all analytes. The limit of detection is 0.003 ppm for all analytes. Contact: Bonaventure Akinlosotu, (703) 605-0653, akinlosotu.bonaventure@epa.gov.

4. PP 8E7481. (EPA-HQ-OPP-2009-0092). IR-4, IR-4 Project Headquarters, 500 College Rd. East, Suite 201 W, Princeton, NJ 08540, proposes to establish tolerances in 40 CFR 180.431(a) for the combined residues of the herbicide clopyralid, (3,6-dichloro-2-pyridinecarboxylic acid) in or on swiss chard at 5.0 ppm and bushberry subgroup 13-07B at 6.0 ppm; and to establish a tolerance in 40 CFR 180.431(c) with regional restrictions for residues of clopyralid in or on strawberry, annual at 4.0 ppm. An adequate residue analytical method is available for enforcement of the tolerances. This method determines clopyralid as the methyl ester by gas chromatography using electron capture detection. This method has been successfully validated by the EPA and has been published in FDA's Pesticide Analytical Manual, Volume II (PAM II). Contact: Laura Nollen, (703) 305-7390, nollen.laura@epa.gov.

5. PP 8E7492. (EPA-HQ-OPP-2009-0018). IR-4, IR-4 Project Headquarters, 500 College Rd. East, Suite 201 W, Princeton, NJ 08540, proposes to establish tolerances in 40 CFR 180.510 for residues of the insecticide pyriproxyfen in or on vegetable, leaves of root and tuber, group 2 at 2.0 ppm; vegetable, leafy, except brassica, group 4 at 3.0 ppm; vegetable, foliage of legume, group 7 at 2.0 ppm; artichoke, globe at 2.0 ppm; asparagus at 2.0 ppm; watercress at 2.0 ppm; and small fruit vine climbing subgroup, except grape 13-07E at 0.35 ppm. Practical analytical methods for detecting and measuring levels of pyriproxyfen (and relevant metabolites) have been developed and validated in/on all appropriate agricultural commodities, respective processing fractions, milk, animal tissues, and environmental samples. The extraction methodology has been validated using aged radiochemical residue samples from metabolism studies. The methods have been validated in cottonseed, apples, soil, and oranges at independent laboratories. The EPA has successfully validated the analytical methods for analysis of cottonseed, pome fruit, nutmeats, almond hulls, and fruiting vegetables. The limit of detection of pyriproxyfen in the methods is 0.01 ppm which will allow monitoring of food with residues at the levels proposed for the tolerances. Contact: Susan Stanton, (703) 305-5218, stanton.susan@epa.gov.

6. PP 8E7506. (EPA-HQ-OPP-2009-0032). IR-4, IR-4 Project Headquarters, 500 College Rd. East, Suite 201 W, Princeton, NJ 08540, proposes to establish tolerances in 40 CFR 180.574 for residues of the fungicide fluazinam (3-chloro-N-[3-chloro-2,6-dinitro-4-(trifluoromethyl) phenyl]-5-(trifluoromethyl)-2-pyridinamine) in or on lettuce, head at 0.02 ppm; lettuce, leaf at 2.0 ppm; onion, bulb, subgroup 3-07A at 0.15 ppm; and bushberry subgroup 13-07B at 4.5 ppm. An analytical method using gas chromatography with electron capture detection (GC-ECD) for the determination of fluazinam residues on blueberry, lettuce and onion has been developed and validated. The method involves solvent extraction followed by liquid partitioning and concentration prior to a final purification using column chromatography. The method has been successfully validated by an independent laboratory using peanut nutmeat as the matrix. The limit of quantitation (LOQ) of the method is 0.01 ppm in lettuce and onion, and 0.02 in blueberry. An analytical method using reversed-phase HPLC with ultraviolet (UV) absorbance detection for the determination of AMGT residues on blueberry has been developed and validated. The limit of quantitation of the method for AMGT is 0.04 ppm in/on blueberry. Contact: Laura Nollen, (703) 305-7390, nollen.laura@epa.gov.

7. PP 7F7197. (EPA-HQ-OPP-2009-0184). Cheminova A/S, c/o Cheminova, Inc., 1600 Wilson Blvd., Suite 700, Arlington, VA 22209, proposes to establish tolerances in 40 CFR part 180 for residues of the fungicide flutriafol in or on apple at 0.2 ppm; apple, wet pomace at 0.3 ppm; soybean at 0.3 ppm; soybean, aspirated grain fractions at 0.5 ppm; liver, (cattle, goat, hog, horse, and sheep) at 0.01 ppm. Residues of flutriafol in plants and plant products can be determined by gas chromatography using thermionic nitrogen specific detection (GC/NPD) for soybeans or mass selective detection (GC/MS) for apples. The method was validated for determination of residues of flutriafol in apples, soybeans, and the corresponding processed commodities. Residues of 1,2,4-triazole (T), triazole alanine (TA), and triazole acetic acid (TAA) can be determined by HPLC employing mass spectrometric detection (LC/MS/MS). Each analyte can be determined separately after extraction, clean-up and/or derivatization specific for each analyte. Residues of flutriafol in animal matrices can be determined by gas chromatography with mass selective detection (GC/MS). The method was validated for determination of residues of flutriafol in milk, muscle, kidney, liver, and egg. Contact: Tamue Gibson, (703) 305-9096, gibson.tamue@epa.gov.

8. PP 8F7424. (EPA-HQ-OPP-2009-0003). Canyon Group LLC, c/o Gowan Company, 370 South Main St., Yuma, AZ 85364, proposes to establish a tolerance in 40 CFR part 180 for residues of the herbicide halosulfuron-methyl in or on soybeans at 0.05 ppm. A practical analytical method, gas chromatography with a nitrogen-specific detector, is available for enforcement purposes. The limit of detection is 0.003 ppm. Contact: Vickie Walters, (703) 305-5704, walters.vickie@epa.gov.

9. PPs 8F7430 and 8F7439. (EPA-HQ-OPP-2009-0009). E.I. du Pont de Nemours & Company, Laurel Run Plaza, P.O. Box 80038, Wilmington, DE 19880-0038, proposes to establish tolerances in 40 CFR 180.451 for residues of the herbicide chlorimuron-ethyl (ethyl 2-[[[[(4-chloro-6-methoxypyrimidin-2-yl) amino]carbonyl]amino]sulfonyl] benzoate in or on (PP 8F7430) corn, field, grain at 0.01 ppm; corn, field, forage at 0.5 ppm; corn, field, stover at 2.0 ppm; corn, field, meal at 0.014 ppm; corn, field, flour at 0.015 ppm; corn, aspirated grain fractions at 1.28 ppm; and (PP 8F7439) soybean, seed at 0.01 ppm; soybean, forage at 0.45 ppm; soybean, hulls at 0.04 ppm; soybean, aspirated grain fractions at 2.79 ppm; and soybean hay at 1.8 ppm. The nature of residues of chlorimuron-ethyl is adequately understood and an acceptable analytical method is available for enforcement purposes. The method procedure used solid phase extraction (SPE) for extract purification and reversed phased HPLC coupled with a triple quadrupole mass spectrometer using an electrospray interface (ESI) operating in positive ion mode with tandem mass spectrometric (MS/MS) detection. A LOD was estimated for each analyte in the range of 0.0007-0.002 mg/kg. Contact: Vickie Walters, (703) 305-5704, walters.vickie@epa.gov.

10. PPs 8F7431 and 8F7440. (EPA-HQ-OPP-2009-0004). E.I. du Pont de Nemours & Company, Laurel Run Plaza, P.O. Box 80038, Wilmington, DE 19880-0038, proposes to establish tolerances in 40 CFR 180.478 for residues of the herbicide rimsulfuron: N-((4,6-dimethoxypyrimidin-2-yl)aminocarbonyl)-3-(ethylsulfonyl)-2-pyridinesulfonamide in or on (PP 8F7440) corn, field, grain at 0.01 ppm; corn, field, forage at 0.4 ppm; corn, field, stover at 2.5 ppm; and (PP 8F7431) soybean, seed at 0.01 ppm; soybean, forage at 0.25 ppm; and soybean, hay at 1.2 ppm. Adequate analytical methodology, HPLC with electrospray interface-tandem mass spectrometry (ESI-MS/MS) detection, is available for enforcement purposes. The two methods are “Analytical Method for the Determination of Rimsulfuron in Watery and Dry Crop Matrices by HPLC/ESI-MS/MS”, DuPont Report 15033 and “Analytical Method for the Determination of Rimsulfuron in Oily Crop Matrices by HPLC/ESI-MS/MS”, DuPont Report 15027. The limit of quantitation for rimsulfuron with these methods, in raw agricultural commodities and in processed fractions, is 0.01 ppm. Contact: Vickie Walters, (703) 305-5704, walters.vickie@epa.gov.

11. PPs 8F7432 and 8F7441. (EPA-HQ-OPP-2009-0005). E.I. du Pont de Nemours & Company, Laurel Run Plaza, P.O. Box 80038, Wilmington, DE 19880-0038, proposes to establish tolerances in 40 CFR 180.451 for residues of the herbicide tribenuron methyl (methyl 2-[[[[(4-methoxy-6-methyl-1,3,5-triazin-2-yl)methylamino] carbonyl]amino]sulfonyl]benzoate) in or on (PP 8F7441) corn, field, grain at 0.01 ppm; corn, field, forage at 0.2 ppm; corn, field, stover at 1.1 ppm; corn, aspirated grain fractions at 3.55 ppm; and (PP 8F7432) soybean, seed at 0.01 ppm; soybean, forage at 0.06 ppm; soybean, hulls at 0.04 ppm; soybean, aspirated grain fractions at 3.46 ppm; and soybean, hay at 0.25 ppm. Various analytical methods are available for the determination of residues of tribenuron methyl in plant matrices. An analytical method was developed for the determination of multiple sulfonylureas including tribenuron methyl and sulfonylurea herbicide residues in oily crop matrices including soybean seed, field corn, and their processed commodities. The target LOQ for each analyte was 0.010 mg/kg (ppm). The method procedure used SPE for extract purification and reversed-phased HPLC coupled with a triple quadrupole mass spectrometer using an ESI operating in positive ion mode with tandem MS/MS detection. Contact: Vickie Walters, (703) 305-5704, walters.vickie@epa.gov.

12. PP 8F7442. (EPA-HQ-OPP-2008-0937). BASF Corporation, 26 Davis Drive, P.O. Box 13528, Research Triangle Park, North Carolina 27709-3528, proposes to establish tolerances in 40 CFR 180.463 for residues of the herbicide quinclorac, 3,7-dichloro-8-quinolinecarboxylic acid in or on grass, forage at 105 ppm and grass, hay at 70 ppm. An adequate analytical method for enforcement of the tolerances exists. The analytical method used for quantitative determinations was designed to measure quinclorac residues present as the parent compound. Contact: Hope Johnson, (703) 305-5410, johnson.hope@epa.gov.

13. PPs 8F7443 and 8F7448. (EPA-HQ-OPP-2009-0002). Monsanto Company, 1300 I St., NW, Suite 450 East, Washington DC 20052, (a member of the Acetochlor Registration Partnership, ARP), proposes to establish tolerances in 40 CFR 180.470 for residues of the herbicide acetochlor (2-chloro-2'-methyl-6'-ethyl-N-ethoxymethylacetanilide) and its metabolites containing either the 2-ethyl-6-methylaniline (EMA) or the 2-(1-hydroxyethyl)-6-methyl-aniline (HEMA) moiety, to be expressed as acetochlor equivalents, when present therein as a result of the application of acetochlor to soil or growing crops in or on (P8F7443) cotton, undelinted seed at 0.6 ppm and cotton, gin byproducts at 4.0 ppm; and (PP 8F7448) soybean, seed at 1.0 ppm. An adequate enforcement method for residues of acetochlor in crops has been approved. Acetochlor and its metabolites are hydrolyzed to either EMA or HEMA, which are determined by high performance liquid chromatography-OCED (HPLC-OCED) and expressed as acetochlor equivalents. Contact: Vickie Walters, (703) 305-5704, walters.vickie@epa.gov.

14. PP 8F7464. (EPA-HQ-OPP-2009-0163). Bayer CropScience, 2 T.W. Alexander Drive, P.O. Box 12014, Research Triangle Park, NC 27709, proposes to establish a tolerance in 40 CFR part 180 for residues of the fungicide trifloxystrobin (Benzeneacetic acid, (E,E)-(methoxyimino)-2-[[[[1-[3-(trifluoromethyl) phenyl]ethylidene]amino]oxy]methyl]-methyl ester) and the free form of its acid metabolite CGA-321113 ((E,E)-methoxyimino-[2-[1-(3-trifluoromethyl-phenyl)-ethylideneaminooxymethyl]-phenyl]acetic acid), in or on vegetable, tuberous and corm, subgroup 1C at 0.04 ppm; artichoke, globe at 1 ppm; leafy greens, subgroup 4A at 15 ppm; leafy petioles, group 4B at 7 ppm; brassica, head and stem, subgroup 5A at 1.1 ppm; brassica, leafy greens, subgroup 5B at 12 ppm; fruit, small fruit vine climbing, subgroup 13-07F, except fuzzy kiwifruit at 2 ppm; berry, lowgrowing, subgroup 13-07G at 1.1 ppm; herb, subgroup 19A at 120 ppm; and spice, subgroup 19B, except black pepper at 50 ppm. A practical analytical methodology for detecting and measuring levels of trifloxystrobin in or on raw agricultural commodities has been submitted. The LOD for each analyte of this method is 0.08 ng injected, and the LOQ is 0.02 ppm. The method is based on crop specific cleanup procedures and determination by gas chromatography with nitrogen-phosphorus detection. A newer analytical method is available employing identical solvent mixtures and solvent to matrix ratio (as the first method), deuterated internal standards, and LC/MS-MS with an electrospray interface, operated in the positive ion mode. The LOD for trifloxystrobin range from 0.002 ppm to 0.01 ppm, depending on the crops, and the LOQ is 0.01 ppm. Contact: Rosemary Kearns, (703) 305-5611, kearns.rosemary@epa.gov.

15. PP 8F7482. (EPA-HQ-OPP-2009-0162). Syngenta Crop Protection, P.O. Box 18300, Greensboro, NC 27419, proposes to establish a tolerance in 40 CFR part 180 for residues of the fungicide difenoconazole, (1-[2-[2-chloro-4-(4-chlorophenoxy)phenyl]-4-methyl-1,3-dioxolan-2-ylmethyl]-1H-1,2,4-triazole) in or on almond, hulls at 7 ppm; brassica, head and stem, subgroup 5A at 1.9 ppm; brassica, leafy green, subgroup 5B at 30 ppm; citrus, dried pulp at 2.5 ppm; citrus, oil at 28 ppm; grape at 4 ppm; grape, raisin at 14 ppm; nut, tree, group 14 at 0.03 ppm; onion, bulb, subgroup 3-07A at 6 ppm; onion, green, subgroup 3-07B at 0.15 ppm; pistachio at 0.03 ppm; and vegetables, cucurbit, group 9 at 0.7 ppm. Syngenta Crop Protection, Inc. has submitted a practical analytical method (AG-575B) for detecting and measuring levels of difenoconazole in or on food with a LOQ that allows monitoring of food with residues at or above the levels set in the proposed tolerances. The EPA has validated this method and copies have been provided to the FDA for insertion into the pesticide analytical manual (PAM) II. Method REM 147.08 is also available as an enforcement method, for the determination of residues of difenoconazole in crops. Residues are quantified by LC/MS/MS. Contact: Rosemary Kearns, (703) 305-5611, kearns.rosemary@epa.gov.

16. PP 8F7488. (EPA-HQ-OPP-2009-0029). Nippon Soda Co., Ltd., c/o Nisso America, Inc., 45 Broadway, Suite 2120, New York, NY 10006, proposes to establish a tolerance in 40 CFR part 180 for residues of the insecticide cyflufenamid, in or on cucurbit crop group at 0.05 ppm; pome fruit crop group at 0.05 ppm; apple, wet pomace at 0.1 ppm; grape (and other small climbing vine fruit (except fuzzy kiwifruit)) crop group at 0.015 ppm; raisin at 0.3 ppm; and strawberry (and other low growing berries) crop group at 0.2 ppm. Based upon the metabolism of cyflufenamid in plants (i.e., parent cyflufenamid as the major residue) and the toxicology of the parent compound, quantification of the parent cyflufenamid is sufficient to determine toxic residues. As a result, a method was developed using solvent extraction of cyflufenamid from crops and analyzing sample extracts by LC/MS/MS. The LOQ for the method was calculated to be 0.01 ppm. Contact: Samantha Hulkower, (703) 603-0683, hulkower.samantha@epa.gov.

17. PP 8F7501. (EPA-HQ-OPP-2009-0057). E. I. DuPont de Nemours and Company, DuPont Crop Protection, P.O. Box 80038, Wilmington, DE 19880-0038, proposes to establish tolerances in 40 CFR part 180 for residues of the herbicide nicosulfuron, 3-pyridinecarboxamide, 2-((((4,6-dimethoxypyrimidin-2-yl)aminocarbonyl) aminosulfonyl))-N,N-dimethyl in or on grass, forage at 9.0 ppm; grass, hay at 25.0 ppm; fat (of cattle, goat, hog, horse, and sheep) at 0.05 ppm; meat (of cattle, goat, hog, horse, and sheep) at 0.05 ppm; meat byproducts (of cattle, goat, hog, horse, and sheep) at 0.05 ppm; milk at 0.05 ppm; and milk, fat at 0.02 ppm. Adequate analytical methodology, high-pressure liquid chromatography with ESI-MS/MS detection, is available for enforcement purposes. The two methods are “Analytical Method for the Determination of Nicosulfuron (DPX-V9360) and its metabolite IN-V9367 in pasture grass by (high performance liquid chromatography/electrospray interface-tandem mass spectrometry) HPLC/ESI-MS/MS”, DuPont Report 17928 and “Analytical Method for the Determination of Nicosulfuron (DPX-V9360) and its metabolite IN-V9367 in animal tissues by HPLC/ESI-MS/MS”, DuPont Report 17927. The limit of quantitation for nicosulfuron with these methods, in raw agricultural commodities and in processed fractions, is 0.01 ppm. Contact: Mindy Ondish, (703) 605-0723, ondish.mindy@epa.gov.

18. PP 9F7520. (EPA-HQ-OPP-2008-0556). Nichino America, Inc., 4550 New Linden Hill Road, Suite 501, Wilmington, DE 19808, proposes to establish a tolerance in 40 CFR 180.566 for residues of the insecticide fenpyroximate and its z-isomer in or on low-growing berries, subgroup 13-07G at 1.0 ppm. Based upon the metabolism of fenpyroximate in plants and the toxicology of the parent and metabolites, quantification of the parent, fenpyroximate and the z-isomer, combined as fenpyroximate is sufficient to determine toxic residue in plants. As a result an enforcement method has been developed which involves extraction of fenpyroximate from crops with acetone, filtration, partitioning and cleanup, and analysis by gas chromatography using a nitrogen/phosphorous detector. The method has undergone independent laboratory validation. Contact: Melody Banks, (703) 305-5413, banks.melody@epa.gov.

19. PP 9F7523. (EPA-HQ-OPP-2009-0134). IR-4, IR-4 Project Headquarters, 500 College Rd. East, Suite 201 W, Princeton, NJ 08540, proposes to establish a tolerance in 40 CFR 180.439 for residues of the herbicide thifensulfuron methyl (methyl-3-[[[[(4-methoxy-6-methyl-1,3,5-triazin-2-yl) amino] carbonyl] amino] sulfonyl]-2-thiophenecarboxylate), in or on safflower, seed at 0.05 ppm. Samples were analyzed for residues of thifensulfuron-methyl using liquid chromatography (LC). The lowest level of method validation (LLMV) for each matrix in this study, i.e., safflower seed, meal and oil, was 0.05 ppm of thifensulfuron-methyl. The LOQ for the method for safflower seed was 0.027 ppm of thifensulfuron-methyl. The estimated LOQ for meal and oil were calculated at 0.039 ppm, and 0.0068 ppm of thifensulfuron-methyl, respectively. The LOD for the method for safflower seed was 0.0090 ppm of thifensulfuron-methyl. The estimated LOD for meal and oil were 0.013 ppm, and 0.0023 ppm of thifensulfuron-methyl, respectively. Contact: Susan Stanton, (703) 305-5218, stanton.susan@epa.gov.

Amended Tolerances

1. PP 8E7447. (EPA-HQ-OPP-2009-0012). IR-4, IR-4 Project Headquarters, 500 College Rd. East, Suite 201 W, Princeton, NJ 08540, proposes to delete the tolerance in 40 CFR 180.544 for residues of the insecticide methoxyfenozide and its metabolites RH-117,236 free phenol of methoxyfenozide; 3,5-dimethylbenzoic acid N-tert-butyl-N'-(3-hydroxy-2-methylbenzoyl) hydrazide, RH-151,055 glucose conjugate of RH-117,236; 3,5-dimethylbenzoic acid N-tert-butyl-N-[3(-[beta]-D-glucopyranosyloxy)-2-methylbenzoyl]-hydrazide) and RH-152,072 the malonylglycosyl conjugate of RH-117,236 in or on dry bean seed at 0.24 ppm since it is a member of the proposed pea and bean, dried shelled, except soybean, subgroup 6C under “New Tolerance” number 2 of this document. Contact: Sidney Jackson, (703) 305-7610, jackson.sidney@epa.gov.

2. PP 8E7474. (EPA-HQ-OPP-2009-0076). IR-4, IR-4 Project Headquarters, 500 College Rd. East, Suite 201 W, Princeton, NJ 08540, proposes to increase the tolerances in 40 CFR 180.507 for residues of the fungicide azoxystrobin: (methyl (E)-2-{2-[6-(2-cyanophenoxy) pyrimidin-4-yloxy]phenyl}-3-methoxyacrylate) and the Z isomer of azoxystrobin,(methyl (Z)-2-{2-[6-(2-cyanophenoxy)pyrimidin-4-yloxy]pheny1}-3-methoxyacrylate) in or on barley, grain from 0.1 ppm to 3.0 ppm and barley, straw from 4.0 ppm to 7.0 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. The EPA concluded that the methods are adequate for enforcement. Analytical methods are also available for analyzing meat, milk, poultry and eggs which also underwent successful independent laboratory validations. Contact: Susan Stanton, (703) 305-5218, stanton.susan@epa.gov.

3. PP 8E7506. (EPA-HQ-OPP-2009-0032). IR-4, IR-4 Project Headquarters, 500 College Rd. East, Suite 201 W, Princeton, NJ 08540, proposes to delete the existing tolerances in 40 CFR 180.574 for residues of the fungicide fluazinam (3-chloro-N-[3-chloro-2,6-dinitro-4-(trifluoromethyl) phenyl]-5-(trifluoromethyl)-2-pyridinamine) in or on aronia berry; buffalo currant; chilean guava; european barberry; highbush cranberry; edible honeysuckle; jostaberry; juneberry; lingonberry; native currant; salal; sea buckthorn; and bushberry subgroup 13B at 7.0 ppm. Contact: Laura Nollen, (703) 305-7390, nollen.laura@epa.gov.

New Tolerance Exemptions

1. PP 8E7477. (EPA-HQ-OPP-2009-0165). Huntsman Corporation, 10003 Woodloch Forest Dr., The Woodlands, TX 77380, proposes to establish an exemption from the requirement of a tolerance in 40 CFR 180.920 for residues of tallowamine, ethoxylated, mixture of dihydrogen phosphate monohydrogen phosphate esters and the corresponding ammonium, calcium, potassium, and sodium salts of the phosphate esters, where the poly(oxyethylene) content averages 2-20 moles (CAS Reg. No. 68308-48-5) when used as a pesticide inert ingredient in pesticide formulations in or on all raw agricultural commodities. Because this petition is a request for an exemption from the requirement of a tolerance, no analytical method is required. Contact: Alganesh Debesai, (703) 308-8353, debesai.alganesh@epa.gov.

2. PP 8E7490. (EPA-HQ-OPP-2009-0047). Rohm and Haas Chemicals LLC, 100 Independence Mall West, Philadelphia, PA 19106-2399, proposes to establish an exemption from the requirement of a tolerance in 40 CFR 180.960 for residues of 2-propenoic acid, butyl ester polymer with ethyl 2-propenoate and N-(hydroxymethyl)-2-propenamide (CAS Reg. No. 33438-19-6) when used as a pesticide inert ingredient in pesticide formulations in or on raw agricultural commodities. Because this petition is a request for an exemption from the requirement of a tolerance, no analytical method is required. Contact: Karen Samek, (703) 347-8825, samek.karen@epa.gov.

3. PP 8E7504. (EPA-HQ-OPP-2009-0138). Dow AgroSciences, LLC, 9330 Zionsville Rd., Indianapolis, IN, 46268, proposes to establish an exemption from the requirement of a tolerance for residues of 2-Propanol, 1,1',1”-nitrilotris-(TIPA) (CAS Reg. No. 122-20-3) under 40 CFR 180.910 when used as a pesticide inert ingredient for use as a neutralizer in pesticide formulations. Because this petition is a request for an exemption from the requirement of a tolerance, no analytical method is required. Contact: Lisa Austin, (703) 305-7894, austin.lisa@epa.gov.

List of Subjects

Environmental protection, Agricultural commodities, Feed additives, Food additives, Pesticides and pests, Reporting and recordkeeping requirements.

Dated: March 26, 2009.
Lois Rossi,
Director, Registration Division, Office of Pesticide Programs.

[FR Doc. E9-7965 Filed 4-7-09; 8:45 am]

BILLING CODE 6560-50-S